FEDERAL COMMUNICATIONS COMMISSION

47 CFR Part 73

[DA 06-421; MB Docket No. 05-296; RM-11289]

Radio Broadcasting Services; Okeene, OK

AGENCY: Federal Communications Commission.

ACTION: Final rule.

SUMMARY: The Audio Division, at the request of Charles Crawford, allots Channel 268C3 at Okeene, Oklahoma, as the community's first local FM service. Channel 268C3 can be allotted to Okeene, Oklahoma, in compliance with the Commission's minimum distance separation requirements with a site restriction of 19.1 km (11.9 miles) northeast of Okeene. The coordinates for Channel 268C3 at Okeene, Oklahoma, are 36-15-00 North Latitude and 98-11-00 West Longitude. See Supplementary Information infra.

DATES: Effective April 10, 2006.

FOR FURTHER INFORMATION CONTACT: Deborah Dupont, Media Bureau, (202) 418-7072.

SUPPLEMENTARY INFORMATION: This is a synopsis of the Commission's Report and Order, MB Docket No. 05-296, adopted February 22, 2006, and released February 24, 2006. The full text of this Commission decision is available for inspection and copying during normal business hours in the FCC Information Center, Portals II, 445 12th Street, SW., Room CY-A257, Washington, DC 20554. The complete text of this decision also may be purchased from the Commission's duplicating contractor, Best Copy and Printing, Inc., 445 12th Street, SW., Room CY-B402, Washington, DC 20554, (800) 378-3160, or via the company's Web site, http://www.bcpiweb.com. The Commission will send a copy of this Report and Order in a report to be sent to Congress and the Government Accountability Office pursuant to the Congressional Review Act, see U.S.C. 801(a)(1)(A).

List of Subjects in 47 CFR Part 73

Radio, Radio broadcasting.

Part 73 of title 47 of the Code of Federal Regulations is amended as follows:

PART 73—RADIO BROADCAST SERVICES

1. The authority citation for part 73 continues to read as follows:

Authority: 47 U.S.C. 154, 303, 334, 336.

§ 73.202 [Amended]

2. Section 73.202(b), the Table of FM Allotments under Oklahoma, is amended by adding Okeene, Channel 268C3.

Federal Communications Commission.
John A. Karousos,
Assistant Chief, Audio Division, Media Bureau.

[FR Doc. 06-2485 Filed 3-14-06; 8:45 am]

BILLING CODE 6712-01-P